DEPARTMENT OF TRANSPORTATION

Federal Highway Administration

Alaska National Interest Lands Conservation Act of 1980 (ANILCA) Title XI Notice of Time Extension for Environmental Impact Statement

AGENCY: Federal Highway Administration (FHWA), DOT.

ACTION: Notice; Final Environmental Impact Statement Time Extension for Good Cause.

SUMMARY: The FHWA has determined it necessary to extend the date by which a final environmental impact statement will be published for the Sterling Highway Milepost 45-60 Project in Alaska, and thereby to extend the timing of decisions of involved Federal agencies regarding the project. Timelines and the process of extending timelines are established in the Alaska National Interest Lands Conservation Act of 1980 (ANILCA) for certain projects. The FHWA is extending the date to accommodate a potential shift in the preferred alternative and to determine with the Department of the Interior how a 2017 commitment to undertake a land exchange in the project area would affect the decision making process. The delay is agreeable to the applicant (Alaska Department of Transportation and Public Facilities) and other involved Federal agencies.

DATES: The publication of a final environmental impact statement for the Sterling Highway MP 45-60 Project is extended to March 13, 2018.

ADDRESSES: Applicant's project website: http://sterlinghighway.net.

FOR FURTHER INFORMATION CONTACT: John Lohrey, FHWA Alaska Division Transportation Planner, 907-586-7428, john.lohrey@dot.gov.

SUPPLEMENTARY INFORMATION: The Alaska Department of Transportation and Public Facilities (DOT&PF) proposes to upgrade and partially realign the Sterling Highway (AK-1) over about 14 miles in the vicinity of Cooper Landing, in the Kenai Peninsula Borough, Alaska. The Sterling Highway Milepost 45-60 Project, in part, would use Federal funding administered by the FHWA. The FHWA and DOT&PF issued a draft supplemental environmental impact statement (EIS) for the project in March 2015. The EIS was a supplemental EIS because FHWA had issued a draft EIS in 1994 for a 23-mile stretch of the Sterling Highway and had issued authorization following the 1994 draft EIS to split the project into two parts, each with independent utility. A decision in 1995 authorized design and construction of the Milepost 37-45 portion (completed in 2001) and development of a supplemental EIS for the Milepost 45-60 portion.

Some alternatives evaluated in the current EIS would cross lands classified as conservation system units (CSUs) by the ANILCA. Title XI of ANILCA requires special procedures for completion of an EIS under the National Environmental Policy Act if a transportation project will cross a CSU. The ANILCA Section 1104(e) [16 U.S.C. 3164(e)] describes procedural requirements, including a requirement that the project's final EIS shall be completed within 1 year of submittal of a form applying to cross a CSU. The procedural requirements allow the lead Federal agency to extend the time period for good cause if a notice is published in the Federal Register to explain the reasons for the extension.

For ANILCA requirements, the involved Federal agencies are FHWA (Department of Transportation); Forest Service (Department of Agriculture); U.S. Fish and Wildlife Service (Department of the Interior); and Corps of Engineers (Department of the Army). These agencies have long been cooperating agencies and have been working in good faith to produce the EIS.

Under ANILCA Title XI, FHWA and the other involved Federal agencies consider the Kenai National Wildlife Refuge and the Resurrection Pass National Recreation Trail on Chugach National Forest to be CSUs. Two alternatives would use land from these CSUs, and two alternatives would not use land from any CSUs. DOT&PF filed the required Federal form, Standard Form 299, as an application for crossing the CSUs. The filing date was March 13, 2015. At that time, neither DOT&PF nor FHWA had identified a preferred alternative, so the application was made in general, because two alternatives would involve CSUs. In December 2015, DOT&PF and FHWA agreed that the G South Alternative was the preferred alternative and released this information to the public. The FHWA issued a letter dated December 9, 2016, to cooperating agencies stating that the preferred alternative would not cross any CSU and that no decision under ANILCA Title XI would be required. Consideration of the timelines under ANILCA Title XI was put aside.

However, based on public and agency comment following publication of the Draft Supplemental EIS and the announcement of the preferred alternative, and based on input from cooperating agencies during preparation of the Final EIS, FHWA and DOT&PF have been reconsidering the preferred alternative. New information also affects identification of the preferred alternative. Therefore, the involved Federal agencies and DOT&PF as the applicant are in agreement that it is in the best interest of good decision-making for this project to extend the timeline given in ANILCA.

Specifically, FHWA is extending the timeline for publishing the Final EIS to March 13, 2018. The FHWA and the other involved Federal agencies expect to publish the Final EIS within that time and to issue their individual decisions regarding permits and authorizations in accordance with ANILCA following the Final EIS publication. The actual issuance of a permit or right-of-way, or actual transfer of funds, is expected to occur as promptly as possible following these decisions, per ANILCA sections 1106(a)(1)(A) and 1106(c)(6).

Authority: 16 U.S.C. 3164(e).

Issued on: January 29, 2018.
Sandra A. Garcia-Aline,
Division Administrator.

[FR Doc. 2018-02265 Filed 2-5-18; 8:45 am]

BILLING CODE 4910-22-P